DEPARTMENT OF DEFENSE

Department of the Air Force

Notice of Intent To Prepare a Supplemental Environmental Impact Statement for Tinian Divert Infrastructure Improvements, Commonwealth of the Mariana Islands

AGENCY: Department of the Air Force, Department of Defense.

ACTION: Notice of Intent.

SUMMARY: The United States Air Force (USAF) is issuing this notice to advise the public of the intent to prepare a Supplemental Environmental Impact Statement (SEIS) for the proposed Tinian Divert Infrastructure Improvements. The SEIS will assess the potential environmental consequences of the construction of a fuel pipeline and associated support facilities, and improvements to existing roadways, on the island of Tinian in the Commonwealth of the Northern Mariana Islands (CNMI).

DATES: USAF invites the public, stakeholders, and other interested parties to attend an open house public scoping meeting from 5 p.m. to 8 p.m. on Thursday, May 17, 2018 at the Tinian Elementary School cafeteria. A Chamorro/Carolinian interpreter will be available at the meeting and can assist with translation of meeting materials and written comments.

ADDRESSES: The project website www.PACAFDivertMarianasEIS.com provides more information on the SEIS and can be used to submit scoping comments. Scoping comments may also be submitted to Ms. Melissa Markell, (210) 925-2728, AFCEC/CZN; Attn: Tinian Divert SEIS; 2261 Hughes Ave, Suite 155; JBSA Lackland, TX 78236-9853, melissa.markell@us.af.mil. Comments will be accepted at any time during the environmental impact analysis process. However, to ensure the USAF has sufficient time to consider public input in the preparation of the Draft SEIS, scoping comments should be submitted in English to the website or the address listed above by May 27, 2018.

SUPPLEMENTARY INFORMATION: The USAF intends to prepare an SEIS to address changes made since the September 2016 completion of the Final EIS for Divert Activities and Exercises and the signature of the Record of Decision (ROD), signed December 7, 2016, announcing the USAF decision to select the Modified Tinian Alternative (Final EIS, Section 2.7, page 2-52) and specifically the North Option (Final EIS, Section 2.5.2, page 2-28), as a future Divert location.

After the ROD was signed in December 2016, the USAF conducted further evaluation of the fuel requirement and associated infrastructure, including the feasibility of different alternatives that were not considered in the original EIS. The USAF now proposes to construct a fuel pipeline to transport fuel from the seaport to the airport, and associated infrastructure at the seaport, rather than using fuel trucks for fuel transfer. In addition, recent reconnaissance surveys of the routes proposed for Divert-related vehicles, and coordination with Tinian leadership, indicate the existing surface road network is inadequate to support heavy vehicle traffic required for Divert activities, and is in need of improvements. Therefore, the USAF also proposes to improve certain existing roads between the seaport and airport that would be used to support Divert-related projects.

Scoping and Agency Coordination: To effectively define the full range of issues to be evaluated in the SEIS, the USAF will determine the scope of the analysis by soliciting comments from interested local, state and federal elected officials and agencies, as well as interested members of the public and others. A scoping meeting will be held on Tinian and the scheduled date, time, and location for the scoping meeting will also be published in local media a minimum of 15 days prior to the scoping meeting. The USAF also welcomes comments under Section 106 of the National Historic Preservation Act (36 Code of Federal Regulations 800) regarding the identification of or effects on historic properties.

If you have comments or would like to become a consulting party in the Section 106 process, please visit the project website or contact Ms. Melissa Markell, AFCEC/CZN at the address above.

Henry Williams,
Acting Air Force Federal Register Liaison Officer.

[FR Doc. 2018-08199 Filed 4-18-18; 8:45 am]

BILLING CODE 5001-05-P